DEPARTMENT OF COMMERCE

National Oceanic and Atmospheric Administration

Announcement of Kachemak Bay National Estuarine Research Reserve Revised Management Plan

AGENCY: Estuarine Reserves Division, Office of Ocean and Coastal Resource Management, National Ocean Service, National Oceanic and Atmospheric Administration, U.S. Department of Commerce.

ACTION: Notice of approval and availability of the Final Revised Management Plan for the Kachemak Bay National Estuarine Research Reserve.

SUMMARY: Notice is hereby given that the Estuarine Reserves Division, Office of Ocean and Coastal Resource Management, National Ocean Service, National Oceanic and Atmospheric Administration (NOAA), U.S. Department of Commerce has approved the revised management plan for the Kachemak Bay National Estuarine Research Reserve (Reserve).

The Reserve was designated in 1999 pursuant to Section 315 of the Coastal Zone Management Act of 1972, as amended, 16 U.S.C. 1461 and has been operating under the management plan approved as part of the designation document. Pursuant to 15 CFR 921.33(c), a state must revise their management plan every five years. The submission of this plan fulfills this requirement and sets a course for successful implementation of the goals and objectives of the reserve.

The mission of the Kachemak Bay reserve management plan is to enhance understanding and appreciation of the Kachemak Bay estuary and adjacent waters to ensure these ecosystems remain healthy and productive through site-based estuarine research, stewardship and education. The management plan identifies six priority resource issues that are addressed through active management. These priority issues are (1) larval and juvenile fisheries recruitment and life history dynamics, (2) climate change, (3) coastal dynamics (natural and anthropogenic), including land use change, (4) natural hazards, (5) socioeconomics associated with coastal resources, and (6) public access. Kachemak Bay reserve's management plan addresses these issues with specific programs for resource management and protection, research and monitoring, education and training, public access and visitor use, program administration, and partnerships and regional coordination.

The plan identifies management goals, priority resource management issues or threats that these goals must address, and specific strategies to accomplish these goals. The resource management and protection program addresses issues such as land acquisition and habitat restoration and protection. The reserve manages important habitats but any land acquisition of inholdings would be done by the state pursuant to existing management programs rather than by the reserve.

The research and monitoring program supports process-oriented research focused on obtaining baseline knowledge of the Bay and its watershed, and expanding hydrographic and biological monitoring that can be used for long-term comparisons. Staff and visiting researchers conduct monitoring and research within the watersheds and boundaries of the reserve and use GIS to map critical habitats and hydrology and hydrodynamic processes.

The education and training program at the reserve targets audiences of all ages and backgrounds for traditional, experiential, training and outreach opportunities. The education program is also upgrading and expanding the Reserve's exhibitry to better interpret scientific data collected by the Research program.

The public access and visitor use program at the reserve includes working with partners to assess visitor needs and complement current public access as allowable. Visitor use policies are designed to provide for compatible use and protection of valuable natural resources.

The administration program team ensures the staffing and budget necessary to carry out the goals and objectives of the plan. Situated within its parent agency, Division of Sport Fish of the Alaska Department of Fish and Game, the administrative staff develops stable funding and grant match opportunities.

FOR FURTHER INFORMATION CONTACT: Nina Garfield at (301) 563-1171 or Laurie McGilvray, Chief, Estuarine Reserves Division at (301) 563-1158 of NOAA's National Ocean Service, Estuarine Reserves Division, 1305 East-West Highway, N/ORM5, 10th floor, Silver Spring, MD 20910.

Dated: February 8, 2006.
Eldon Hout,
Director, Office of Ocean and Coastal Resource Management, National Oceanic and Atmospheric Administration.

[FR Doc. E6-2528 Filed 2-22-06; 8:45 am]

BILLING CODE 3510-JE-P